ENVIRONMENTAL PROTECTION AGENCY

40 CFR Part 52

[NC105-200331b; FRL-7559-6]

Approval and Promulgation of Implementation Plans, North Carolina: Miscellaneous Revisions to the Forsyth County Local Implementation Plan

AGENCY: Environmental Protection Agency (EPA).

ACTION: Proposed rule.

SUMMARY: The EPA is proposing to approve revisions to the Local Implementation Plan (LIP) submitted by the Forsyth County Environmental Affairs Department, through the State of North Carolina, for the purpose of amending or adding indirect heat exchangers, cotton ginning operations, bulk gasoline terminals, gasoline truck tanks and vapor collection systems and activities exempt from permit requirements and other miscellaneous rules within the Air Pollution Control Requirements subchapter. In the Final Rules Section of this Federal Register, the EPA is approving the Forsyth county LIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before October 16, 2003.

ADDRESSES: All comments should be addressed to: Rosymar De La Torre Colón; Regulatory Development Section; Air Planning Branch; Air, Pesticides and Toxics Management Division; U.S. Environmental Protection Agency Region 4; 61 Forsyth Street, SW., Atlanta, Georgia 30303-8960. Comments may also be submitted electronically, or through hand delivery/courier. Please follow the detailed instructions described in the direct final rule, SUPPLEMENTARY INFORMATION (sections I.B.1.i. through iii.) which is published in the Rules Section of this Federal Register.

FOR FURTHER INFORMATION CONTACT: Rosymar De La Torre Colón, Regulatory Development Section, Air Planning Branch, Air, Pesticides and Toxics Management Division, Region 4, U.S. Environmental Protection Agency, 61 Forsyth Street, SW., Atlanta, Georgia 30303-8960. The telephone number is (404) 562-8965. Ms. De La Torre Colón can also be reached via electronic mail at delatorre.rosymar@epa.gov.

SUPPLEMENTARY INFORMATION: For additional information, see the direct final rule which is published in the rules section of this Federal Register.

Dated: August 28, 2003.
A. Stanley Meiburg,
Acting Regional Administrator, Region 4.

[FR Doc. 03-23583 Filed 9-15-03; 8:45 am]

BILLING CODE 6560-50-P